FEDERAL ELECTION COMMISSION

11 CFR Part 115

[Notice 2015-06]

Rulemaking Petition: Federal Contractors

AGENCY: Federal Election Commission.

ACTION: Rulemaking Petition: Notice of availability.

SUMMARY: On November 18, 2014, the Federal Election Commission received a Petition for Rulemaking from Public Citizen. The petitioner asks the Commission to amend its regulations regarding federal contractors to include certain factors for determining whether entities of the same corporate family are distinct business entities for purposes of the prohibition on contributions by federal contractors. The Commission seeks comments on this petition.

DATES: Comments must be submitted on or before May 29, 2015.

ADDRESSES: All comments must be in writing. Commenters are encouraged to submit comments electronically via the Commission's Web site at http://www.fec.gov/fosers, reference REG 2014-09, or by email to ContractorPetition@fec.gov. Alternatively, commenters may submit comments in paper form, addressed to the Federal Election Commission, Attn.: Amy L. Rothstein, Assistant General Counsel, 999 E Street NW., Washington, DC 20463.

Each commenter must provide, at a minimum, his or her first name, last name, city, state, and zip code. All properly submitted comments, including attachments, will become part of the public record, and the Commission will make comments available for public viewing on the Commission's Web site and in the Commission's Public Records room. Accordingly, commenters should not provide in their comments any information that they do not wish to make public, such as a home street address, personal email address, date of birth, phone number, social security number, or driver's license number, or any information that is restricted from disclosure, such as trade secrets or commercial or financial information that is privileged or confidential.

FOR FURTHER INFORMATION CONTACT: Mrs. Amy L. Rothstein, Assistant General Counsel, or Mr. Neven F. Stipanovic, Attorney, 999 E Street NW., Washington, DC 20463, (202) 694-1650 or (800) 424-9530.

SUPPLEMENTARY INFORMATION: On November 18, 2014, the Commission received a Petition for Rulemaking from Public Citizen regarding part 115 of the Commission's regulations. Part 115 prohibits federal contractors from making contributions or expenditures to any political party, political committee, or federal candidate, or to any person for any political purpose or use. 11 CFR 115.2(a); see also 52 U.S.C. 30119(a)(1) (formerly 2 U.S.C. 441c(a)(1)). Part 115 further prohibits any person from knowingly soliciting a contribution from any federal contractor. 11 CFR 115.2(c); see also 52 U.S.C. 30119(a)(2) (formerly 2 U.S.C. 441c(a)(2)). The petitioner asks the Commission to amend 11 CFR part 115 to include certain factors for determining whether entities of the same corporate family are distinct business entities for purposes of these prohibitions. The Commission seeks comments on the petition.

The public may inspect the Petition for Rulemaking on the Commission's Web site at http://www.fec.gov/fosers, or in the Commission's Public Records Office, 999 E Street, NW., Washington, DC 20463, Monday through Friday, from 9 a.m. to 5 p.m. Interested persons may also obtain a copy of the petition by dialing the Commission's Faxline service at (202) 501-3413 and following its instructions. Request document #276.

The Commission will not consider the petition's merits until after the comment period closes. If the Commission decides that the petition has merit, it may begin a rulemaking proceeding. The Commission will announce any action that it takes in the Federal Register.

On behalf of the Commission,
Dated: March 24, 2015.
Ann M. Ravel,
Chair, Federal Election Commission.

[FR Doc. 2015-07177 Filed 3-27-15; 8:45 am]

BILLING CODE 6715-01-P